DEPARTMENT OF JUSTICE

[OMB Number 1125-NEW]

Agency Information Collection Activities; Proposed eCollection; eComments Requested; Evaluation of the justice AmeriCorp Legal Services for Unaccompanied Children Program

AGENCY: Executive Office for Immigration Review, Department of Justice.

ACTION: 60-day notice.

SUMMARY: The Department of Justice (DOJ), Executive Office for Immigration Review, will be submitting the following information collection request to the Office of Management and Budget (OMB) for review and approval in accordance with the Paperwork Reduction Act of 1995.

DATES: Comments are encouraged and will be accepted for 60 days until April 13, 2015.

FOR FURTHER INFORMATION CONTACT: If you have additional comments especially on the estimated public burden or associated response time, suggestions, or need a copy of the proposed information collection instrument with instructions or additional information, please contact Jean King, Acting General Counsel, Executive Office for Immigration Review, U.S. Department of Justice, Suite 2600, 5107 Leesburg Pike, Falls Church, Virginia 20530; telephone: (703) 305-0470.

SUPPLEMENTARY INFORMATION: Written comments and suggestions from the public and affected agencies concerning the proposed collection of information are encouraged. Your comments should address one or more of the following four points:

—Evaluate whether the proposed collection of information is necessary for the proper performance of the functions of the Executive Office for Immigration Review, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New Voluntary Collection.

2. The Title of the Form/Collection: Evaluation of the justice AmeriCorp (jAC) Legal Services for Unaccompanied Children Program.

3. The agency form number, if any, and the applicable component of the Department sponsoring the collection: The applicable component within the Department of Justice is the Office of Legal Access Programs, Executive Office for Immigration Review.

4. Affected public who will be asked or required to respond, as well as a brief abstract: This information collection is part of the Evaluation of the justice AmericCorp (jAC) Legal Services for Unaccompanied Children Program (“Program”), and is funded by Executive Office for Immigration Review (EOIR), U.S. Department of Justice (DOJ), in cooperation with the Corporation for National and Community Services (CNCS). The Program is intended to provide legal services to children under the age of 16 who: (1) Are not in the custody of the Office of Refugee Resettlement (ORR) or the Department of Homeland Security (DHS), i.e. have been released to sponsors (who are sometimes parents or guardians) in the community; (2) have received a Notice to Appear in removal proceedings before EOIR; and, (3) have not had their cases consolidated with removal proceedings with a parent or legal guardian. The Program anticipates being able to provide services to 3,000 children in the first year, and 5,000 children annually every year thereafter. The information collection will be administered by the Vera Center on Immigration and Justice to provide performance measurement and evaluation services that will contribute to the efficiency and effectiveness of the Program, to address implementation challenges, to inform and improve program design, to modify program operations and direction, and to contribute to greater accountability and transparency. The Program will use four data collection methods: (1) Performance measurement data entered by jAC member organizations in a secure on-line, Vera-designed Caspio database for the purpose of semi-annual reporting to the federal funder; (2) qualitative interviews of jAC program managers and selected DOJ employees (e.g. immigration judges) conducted by telephone and in person during site visits for the purpose of implementation evaluation; (3) qualitative interviews with a small sample of unaccompanied children, who are provided with legal representation by the jAC program to document their understanding of immigration proceedings as a result of participation in the program; and (4) a brief, non-identifiable survey of jAC members (staff attorneys) at the end of their terms of service to determine their satisfaction with participation in the program.

5. An estimate of the total number of respondents and the amount of time estimated for an average respondent to respond: An estimated 100 jAC members will take part in the survey annually. Based on similar surveys used by Vera to evaluate other programs, an average of 45 minutes per respondent is needed to complete the exit survey. The estimated range of burden for jAC members is expected to be between 30 minutes to 1 hour for completion. An estimated 1,000 children will take part in the survey annually. The survey for assessing the child's understanding of immigration proceedings is estimated to take 1.5 hours per respondent to complete. The estimated range of burden for surveyed children is expected to be between 1 hour and 2 hours for completion. The factors considered when creating the burden estimate were the young age of the children (between the ages of 12 and 16) and the fact that the survey would be conducted via an in-person interview. An estimated 200 jAC program stakeholders will take part in the survey annually. Based on similar surveys used by Vera to evaluate other programs, an average of 75 minutes per respondent is needed to complete the exit survey. The estimated range of burden for jAC program stakeholders is expected to be between 30 minutes to 2 hours for completion.

6. An estimate of the total public burden (in hours) associated with the collection: The estimated public burden associated with this collection is 1825 hours. It is estimated that 100 jAC members will take 45 minutes hour to complete the survey; 1,000 children will take 1.5 hours to complete the survey; and 200 jAC stakeholders 75 minutes to complete the survey. The burden hours for collecting respondent data sum to 1825 hours ((100 jAC members × 45 minutes = 75 hours) + (1,000 children × 1.5 hours = 1,500 hours) + (200 jAC stakeholders × 75 minutes = 250 hours)).

If additional information is required contact: Jerri Murray, Department Clearance Officer, United States Department of Justice, Justice Management Division, Policy and Planning Staff, Two Constitution Square, 145 N Street NE., 3E.405B, Washington, DC 20530.

Dated: February 9, 2015.
Jerri Murray,
Department Clearance Officer for PRA, U.S. Department of Justice.

[FR Doc. 2015-02962 Filed 2-11-15; 8:45 am]

BILLING CODE 4410-30-P